SECURITIES AND EXCHANGE COMMISSION

[OMB Control No. 3235-0121]

Submission for OMB Review; Comment Request; Extension: Form 18—Registration Form

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 18 (17 CFR 249.218) is a registration form that can be used for by a foreign government or political subdivision thereof to register securities for listing on a U.S. exchange. The information collected is intended to provide U.S. investors in relevant foreign government securities with material information concerning those securities and the foreign government registrant so that investors can make informed investment decisions. The information required by Form 18 is mandatory, and the information is made publicly available on EDGAR.

We estimate that Form 18 takes approximately 8 hours per response and that approximately 5 responses are made annually. We derived our burden hour estimate by estimating the average number of hours it would take a foreign government or political subdivision thereof to compile the necessary information and data, prepare and review the disclosure, file documents, and retain records. We estimate that 100% of the burden is carried out internally by the foreign government or political subdivision thereof. Based on our estimates, we calculate the total reporting burden to be 40 hours annually ((8 hours per response × 100%) × 5 responses annually).

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202502-3235-012 or email comment to MBX.OMB.OIRA.SEC_desk_officer@omb.eop.gov within 30 days of the day after publication of this notice, by July 25, 2025.

Dated: June 18, 2025.
Sherry R. Haywood,
Assistant Secretary.

[FR Doc. 2025-11513 Filed 6-23-25; 8:45 am]

BILLING CODE 8011-01-P